DEPARTMENT OF STATE

[Public Notice 5681]

Announcement of Meetings of the International Telecommunication Advisory Committee

Summary: This notice announces meetings of the International Telecommunication Advisory Committee (ITAC) to prepare advice on U.S. positions for the OAS CITEL Permanent Consultative Committee II (Radiocommunication), the International Telecommunication Union's Telecommunication Development Advisory Group (TDAG) and various Telecommunication Standardization Study Groups.

The ITAC will meet on March 13, 2007 2-4 p.m. to prepare advice for the meeting of PCC.II (Radiocommunication, including Broadcasting) of the Organization of American States Inter-American Telecommunications Commission (CITEL). Location of this meeting may be obtained by calling the Secretariat below.

The ITAC will meet on Thursday March 15, 2007 from 2-4 p.m. to prepare advice on U.S. positions to be taken at ITU-T Study Group 3 at the AT&T Innovation Center, 1133 21st Street, NW., Suite 210, Washington, DC. This meeting replaces one scheduled for March 8, 2007.

The ITAC will meet on March 15, 22, and 29, 2007 all 2-4 p.m. all in Room 2533A of the Harry S Truman Building to prepare advice for the meeting of the Telecommunication Development Advisory Group (TDAG).

The International Telecommunication Advisory Committee (ITAC) will meet by conference call to prepare for ITU-T Study Groups 11, 13, and 19 on March 30, 2007. People desiring to participate in this call should contact the Secretariat at minardje@state.gov or 202 647-3234 for directions.

The International Telecommunication Advisory Committee (ITAC) will meet to prepare for ITU-T Study Group 15 on May 18, 2007 directly following the meetings of the Alliance for Telecommunications Industry Solutions (ATIS) committees OPTXS and NIPP in Minneapolis, MN. The location of this meeting will be available from the Secretariat at minardje@state.gov.

The International Telecommunication Advisory Committee (ITAC) will meet to prepare for ITU-T Study Group 16 on June 7, 2007 9:30 a.m. to noon, at the offices of Communications Technologies Inc, 14151 Newbrook Drive, Suite 400, Chantilly, VA 20151.

These meetings are open to the public. Further information may be obtained from the Secretariat at minardje@state.gov, telephone 202 647-3234.

Dated: February 5, 2007.
Marian R. Gordon,
Director Telecommunication & Information Standardization, International Communications & Information Policy, Multilateral Affairs, Department of State.

[FR Doc. E7-2344 Filed 2-9-07; 8:45 am]

BILLING CODE 4710-07-P